DEPARTMENT OF ENERGY

Federal Energy Regulatory Commission

[Docket Nos. ER05-6-017, -018, -019, -020, -021, -022; EL04-135-019, -020, -021, -022, -023, -024; EL02-111-037, -038, -039, -040, -041, -042; EL03-212-033, -034, -035, -036, -037, -038]

Midwest Independent Transmission System Operator, Inc.; Midwest Independent Transmission System Operator, Inc. and PJM Interconnection, LLC, et al.; Midwest Independent Transmission System Operator, Inc. and PJM Interconnection, LLC, et al.; Ameren Services Company, et al.; Notice Establishing Common Comment Date

May 13, 2005.

On April 19, 2005, the Commission issued a Notice of Extension of Time establishing a common due date to file comments on the March 31, 2005, filing by the Midwest Independent Transmission System Operator, Inc. (Midwest ISO) and the Midwest ISO Transmission Owners (collectively, Midwest ISO Applicants). The comment due date was extended to coincide with the comment date established for an anticipated filing that was to be submitted by Midwest ISO Applicants to incorporate lost revenue information that was to be filed by the PJM Interconnection, L.L.C. (PJM) transmission owners.

On May 9, 2005, the Commission issued another notice to establish a common comment due date for further filings that had been submitted that relate to the March 31, 2005 filing by the Midwest ISO Applicants.

Subsequently, Midwest ISO Applicants' anticipated filing to incorporate lost revenue information that was submitted by the PJM transmission owners, was submitted on May 4, 2005, as amended on May 5, 2005. A notice for this filing was issued on May 12, 2005, with a comment due date of May 26, 2005.

Accordingly, in order to ensure consistent comment deadlines on these related filings, notice is hereby given that the due date for comments on the filings submitted in the above captioned dockets is extended to and including May 26, 2005.

Magalie R. Salas,
Secretary.

[FR Doc. E5-2545 Filed 5-19-05; 8:45 am]

BILLING CODE 6717-01-P